DEPARTMENT OF THE INTERIOR

Bureau of Land Management

(CO-600-00-1040-PG-241A)

Southwest Colorado and Northwest Colorado Resource Advisory Council Meetings

AGENCY: Bureau of Land Management, Interior.

ACTION: Notice of Meetings.

SUMMARY: Notice is hereby given that the next meeting of the Southwest Colorado Resource Advisory Council (RAC) will be held March 6, 2002 at the Ouray Community Center located at 320 6th Avenue in Ouray, Colorado. Notice is also given that the next meeting of the Northwest Colorado RAC will be held on March 14, 2002 at the Hotel Colorado, located at 516 Pine in Glenwood Springs, Colorado.

DATES: Southwest RAC meeting: March 6, 2002; Northwest RAC meeting: March 14, 2002.

FOR FURTHER INFORMATION CONTACT: Larry J. Porter, Bureau of Land Management, 2815 H Road, Grand Junction, Colorado 81506; Telephone (970) 244-3012.

SUPPLEMENTARY INFORMATION: The Southwest Colorado RAC will meet on Wednesday, March 6, 2002, in the Ouray Community Center located at 320 6th Avenue in Ouray, Colorado. The meeting will begin at 9:00 a.m., and will adjourn upon completion of the agenda, approximately 4:00 p.m. The purpose of the meeting is to elect new RAC officers and to consider several resource management topics including Gunnison Gorge National Conservation Area Resource Management Plan and Environmental Impact Statement update, weed management, wildlife conflicts, Uncompahgre Plateau Project update and BLM staff briefings.

The Northwest Colorado RAC will meet on Thursday, March 14, 2002, at the Hotel Colorado located at 516 Pine in Glenwood Springs, Colorardo. The meeting will begin at 9:00 a.m., and will adjourn upon completion of the agenda, approximately 4:00 p.m. The purpose of the meeting is to elect new RAC officers and to consider several resource management updates including RAC subcommittee reports, travel management, oil—gas—coal programs, cultural resources program, fire management, and BLM staff briefings.

These meetings are open to the public. Interested members of the public may present written or oral comments to either of the RACs at 9:20 a.m. or 3:40 p.m. on the respective meeting dates. Per-person time limits for oral statements may be set to allow all interested individuals an opportunity to speak. Subject to the time available, individuals may also be allowed to provide input to the councils during discussion of specific agenda topics.

Summary minutes of RAC meetings are maintained in the BLM Western Slope Center Office located at 2815 H Road, Grand Junction, CO 81506; Telephone (970) 244-3000. Minutes are available for public inspection and reproduction during regular business hours within thirty (30) days following the meeting.

Dated: January 24, 2002
Larry J. Porter
Resource Advisor, Western Slope Center.

[FR Doc. 02-4144 Filed 2-19-02; 8:45 am]

BILLING CODE 4310-JB-P